FEDERAL DEPOSIT INSURANCE CORPORATION

Agency Information Collection Activities; Submission for OMB Review; Comment Request; Suspicious Activity Report

AGENCY: Federal Deposit Insurance Corporation (FDIC).

ACTION: Notice and request for comments.

SUMMARY: In accordance with requirements of the Paperwork Reduction Act of 1995 (“PRA”), 44 U.S.C. 3501 et seq., the FDIC may not conduct or sponsor, and the respondent is not required to respond to, an information collection unless it displays a currently valid Office of Management and Budget (OMB) control number. The FDIC, as part of its continuing effort to reduce paperwork and respondent burden, invites the general public and other Federal agencies to take this opportunity to comment on the renewal of an existing information collection, as required by the PRA. On August 10, 2012 (77 FR 47840), the FDIC solicited public comment for a 60-day period on renewal of the following information collections: Suspicious Activity Report (OMB No. 3064-0077). No comments were received. Therefore, the FDIC hereby gives notice of submission of its request for renewal to OMB for review.

DATES: Comments must be submitted on or before November 14, 2012.

ADDRESSES: Interested parties are invited to submit written comments to the FDIC by any of the following methods:

• http://www.FDIC.gov/regulations/laws/federal/notices.html.

• Email: comments@fdic.gov. Include the name of the collection in the subject line of the message.

• Mail: Leneta G. Gregorie (202-898-3719), Counsel, Room NY-5050, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Leneta Gregorie, at the FDIC address above.

SUPPLEMENTARY INFORMATION: Proposal to renew the following currently approved collections of information:

Title: Suspicious Activity Report.

OMB Number: 3064-0077.

Form Numbers: FDIC 6710/06.

Frequency of Response: On occasion.

Affected Public: Insured state nonmember banks and state savings institutions.

Estimated Number of Respondents: 5,243.

Estimated Average Time per Response: 1 hour.

Frequency of Response: 26.2.

Total Annual Burden: 137,467 hours.

General Description of Collection: In 1985, the FDIC, the Federal Reserve Board (FRB), the Office of the Comptroller of the Currency (OCC), the National Credit Union Administration (NCUA) (collectively “the Agencies”), issued procedures to be used by banks and certain other financial institutions operating in the United States to report known or suspected criminal activities to the appropriate law enforcement and the Agencies. Beginning in 1994, the Agencies and the Financial Crimes Enforcement Network (FinCEN) undertook a redesign of the reporting process and developed the Suspicious Activity Report, which became effective in April 1996. The report is authorized by the following regulations: 12 CFR 353.3 (FDIC); 12 CFR 21.11 and 12 CFR 163.180 (OCC); 12 CFR 208.62(c), 211.5(k), 211.24(f), and 225.4(f) (FRB); 12 CFR 748.1 (NCUA); and 31 CFR 103.18 (FinCEN). The regulations were issued under the authority contained in the following statutes: 12 U.S.C1818-1820 (FDIC); 12 U.S.C. 248(a)(1), 625, 1818, 1844(c), 3105(c)(2) and 3106(a) (FRB); 12 U.S.C. 93a, 1463, 1464, 1818, 1881-84, 3401-22, 31 U.S.C. 5318 (OCC); 12 U.S.C. 1766(a), 1789(a) (NCUA); and 31 U.S.C. 5318(g) (FinCEN).

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 9th day of October 2012.
Federal Deposit Insurance Corporation.
Robert E. Feldman,
Executive Secretary.

[FR Doc. 2012-25151 Filed 10-12-12; 8:45 am]

BILLING CODE 6714-01-P